DEPARTMENT OF STATE

[Public Notice 5691]

Fourth Public Meeting of the Advisory Committee on Persons With Disabilities

Summary: The Advisory Committee on Persons with Disabilities will conduct its fourth public meeting on Wednesday, May 2, 2007 from 9 a.m.-4 p.m. in the Ronald Reagan Building and International Trade Center, 1300 Pennsylvania Avenue, NW., Washington, DC 20004. For directions, see, http://www.itcdc.com/index.php.

Attendees must have valid, government-issued identification, such as a Driver's License or passport, in order to enter the building. Attendees requiring reasonable accommodation should indicate their requirements one week prior to the event to Stephanie Ortoleva at ortolevas@state.gov.

The Advisory Committee is made up of the Secretary of State, the Administrator of the U.S. Agency for International Development and an Executive Director (all ex-officio members); and eight members from outside the United States government: Senda Benaissa, Joni Eareckson Tada, Vail Horton, John Kemp, Albert H. Linden, Jr., Kathleen Martinez, John Register and James E. Vermillion.

Established on June 23, 2004, the Advisory Committee serves the Secretary and the Administrator in an advisory capacity with respect to the consideration of the interests of persons with disabilities in formulation and implementation of U.S. foreign policy and foreign assistance. The Committee is established under the general authority of the Secretary and the Department of State as set forth in Title 22 of the United States Code, in particular Sections 2656 and 2651a, and in accordance with the Federal Advisory Committee Act, as amended.

Dated: April 5, 2007.
Stephanie Ortoleva,
Bureau of Democracy, Human Rights and Labor, Department of State.

[FR Doc. E7-6873 Filed 4-10-07; 8:45 am]

BILLING CODE 4710-18-P